DEPARTMENT OF TRANSPORTATION

National Highway Traffic Safety Administration

[Docket No. NHTSA-2000-6975; Notice 1]

Forest River, Inc.; Receipt of Application for Decision of Inconsequential Noncompliance

Forest River, Inc., a recreational vehicle manufacturer in Goshen, Indiana, has estimated that shades furnished in 511 of their model year 2000 motorhomes ¹ fail to comply with 49 CFR 571.302, Federal Motor Vehicle Safety Standard (FMVSS) No. 302, “Flammability of Interior Materials,” and has filed an appropriate report pursuant to 49 CFR Part 573, “Defect and Noncompliance Reports.” Forest River has also petitioned to be exempted from the notification and remedy requirements of 49 U.S.C. Chapter 301—“Motor Vehicle Safety” on the basis that the noncompliance is inconsequential to motor vehicle safety.

¹ Affected vehicles include River Forest manufactured motorhomes (1) Sunseeker—models 230, 235S, 260, 280, 305S, 310; (2) Georgetown—models 265, 303, 306S, 320, 325S, 346S; (3) Windsong—models 325S, 326DS, 349S, 340S; and (4) Reflection—models 327S, 350S.

This notice of receipt of a petition is published under 49 U.S.C. 30118 and 30120 and does not represent any agency decision or other exercise of judgment concerning the merits of the petition.

The agency has assigned a Recall Campaign No. 99V-353 for this noncompliance case. FMVSS No. 302's paragraph S4.1 specifies shades, among others, as a component of vehicle occupant compartments, and that shades, therefore, shall meet the requirements of S4.3. Paragraph S4.3 specifies that when a component material is tested in accordance with paragraph S5, it shall not burn, nor transmit a flame across its surface, at a rate of more than 102 mm (4 inches) per minute. FMVSS No. 302's burn rate testing requires a 102 mm (4-inch) wide by 356 mm (14-inch) long sample, wherever possible (S5.2).

On January 12, 2000, Forest River voluntarily submitted a Part 573 Noncompliance Report and acknowledged that shades used in the affected vehicles do not comply with FMVSS No. 302. The conclusion was based on a one-sample test conducted on November 9, 1999. The test showed a 199 mm (7.84 inches) per minute burn rate which is a noncompliance with FMVSS No. 302. Forest River stated that it immediately corrected their production designs and that the new shades comply with FMVSS No. 302 as demonstrated by a new test conducted on November 24, 1999, showing a 0 mm (0 inch) per minute burn rate.

Forest River supports its application for inconsequential noncompliance with the following:

“1. The shades are not used in the driver/passenger area. They are used in the living portion only, which is behind the driver/passenger compartment.

2. FMVSS No. 302 does not apply to Traveltrailers, Fithwheels (sic) and Truck Campers with similar living areas. Some states do allow people to travel in them as well.

3. The total area of the shades represents a minimal area compared to the total interior surface area.

4. There has been no reports of problems or fires involving these shades. “

Based on above stated reasons, Forest River requested NHTSA to grant the inconsequentiality petition since the noncompliance represents a minimal potential for occupant injury due to interior fire. It also stated that because there have been no reports of fires involving the noncompliance shades, the noncompliance presents no reasonably anticipated risk to motor vehicle safety.

Interested persons are invited to submit written data, views, and arguments on the application of Forest River described above. Comments should refer to the docket number and be submitted to: Docket Section, National Highway Traffic Safety Administration, Room 5109, 400 Seventh Street, SW, Washington, DC 20590. It is requested but not required that six copies be submitted.

All comments received before the close of business on the closing date indicated below will be considered. The application and supporting materials, and all comments received after the closing date, will also be filed and will be considered to the extent possible. When the application is granted or denied, the notice will be published in the Federal Register pursuant to the authority indicated below.

Comment closing date: April 5, 2000.

(49 U.S.C. 30118 and 30120; delegations of authority at 49 CFR 1.50 and 501.8)

Issued on: February 29, 2000.
Stephen R. Kratzke,
Acting Associate Administrator for Safety Performance Standards.

[FR Doc. 00-5358 Filed 3-3-00; 8:45 am]

BILLING CODE 4910-59-P